FEDERAL COMMUNICATIONS COMMISSION

47 CFR Parts 8 and 20

[WC Docket Nos. 23-320, 17-108; FCC 24-52, FR ID 224122]

Safeguarding and Securing the Open Internet; Restoring Internet Freedom; Correction

AGENCY: Federal Communications Commission.

ACTION: Final rule; correction.

SUMMARY: The Federal Communications Commission (FCC) is correcting an error in the Dates section of a document that was published in the Federal Register on May 22, 2024.

DATES: This correction is effective June 7, 2024.

FOR FURTHER INFORMATION CONTACT: For further information, contact Chris Laughlin, Wireline Competition Bureau, at 202-418-2193.

SUPPLEMENTARY INFORMATION: The FCC is correcting a compliance date in the Declaratory Ruling, Report and Order, Order, and Order on Reconsideration, published as a final rule in the Federal Register of May 22, 2024, at 89 FR 45404, for when China Mobile International (USA) Inc., China Telecom (Americas) Corporation, China Unicom (Americas) Operations Limited, Pacific Networks Corp., and ComNet (USA) LLC, and their affiliates and subsidiaries as defined pursuant to 47 CFR 2.903(c), shall discontinue any and all provision of broadband internet access service.

Correction

Accordingly, in FR Doc. 2024-10674, published in the Federal Register of May 22, 2024 (89 FR 45404), on page 45404, in the first column, correct the second paragraph of the DATES section to read as follows:

“As of September 20, 2024, China Mobile International (USA) Inc., China Telecom (Americas) Corporation, China Unicom (Americas) Operations Limited, Pacific Networks Corp., and ComNet (USA) LLC, and their affiliates and subsidiaries as defined pursuant to 47 CFR 2.903(c), shall discontinue any and all provision of broadband internet access service.”

Marlene Dortch,
Secretary.

[FR Doc. 2024-12565 Filed 6-6-24; 8:45 am]

BILLING CODE 6712-01-P